DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of four individuals and 12 entities whose property and interests in property have been blocked pursuant to the Foreign Narcotics Kingpin Designation Act (“Kingpin Act”) (21 U.S.C. 1901-1908, 8 U.S.C. 1182). In addition, OFAC is publishing additions to the identifying information for nine individuals and 10 entities previously designated pursuant to the Kingpin Act.

DATES: The designation by the Director of OFAC of the four individuals and 12 entities identified in this notice pursuant to section 805(b) of the Kingpin Act is effective on September 21, 2011.

FOR FURTHER INFORMATION CONTACT: Assistant Director, Sanctions Compliance and Evaluation, Office of Foreign Assets Control, Department of the Treasury, Washington, DC 20220, tel.: (202) 622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 21, 2011, the Director of OFAC designated four individuals and 12 entities whose property and interests in property are blocked pursuant to section 805(b) of the Kingpin Act.

The list of additional designees is as follows:

Individuals:

1. BARCENAS RIVERA, Mauricio, c/o BIO FORESTAL S.A.S., Medellin, Colombia; c/o C.I. DISERCOM S.A.S., Bogota, Colombia; c/o C.I. METALURGIA EXTRACTIVA DE COLOMBIA S.A.S., Bogota, Colombia; c/o C.I. OKCOFFEE COLOMBIA S.A.S., Bogota, Colombia; c/o C.I. OKCOFFEE INTERNATIONAL S.A.S., Bogota, Colombia; c/o CUBICAFE S.A.S., Bogota, Colombia; c/o DESARROLLO MINERO RESPONSABLE C.I. S.A.S., Bogota, Colombia; c/o FUNDACION SALVA LA SELVA, Bogota, Colombia; c/o GANADERIA LA SORGUITA S.A.S., Medellin, Colombia; c/o INVERPUNTO DEL VALLE S.A., Cali, Colombia; c/o LINEA AEREA PUEBLOS AMAZONICOS S.A.S., Bogota, Colombia; c/o PARQUES TEMATICOS S.A.S., Medellin, Colombia; c/o PROMO RAIZ S.A.S., Medellin, Colombia; c/o UNION DE CONSTRUCTORES CONUSA S.A.S., Bogota, Colombia; Calle 25 No. 35-21, Cali, Colombia; Calle 74 No. 10-33 Apto. 801, Bogota, Colombia; DOB 30 Jun 1977; POB Cali, Colombia; Cedula No. 94508327 (Colombia) (individual) [SDNTK]

2. CASTRO, Jesus Maria, c/o NEGOCIOS INTERNACIONALES DEL ECUADOR NIDEGROUP S.A., Quito, Pichincha, Ecuador; c/o SNACK PARTY, Quito, Pichincha, Ecuador; DOB 20 Nov 1967; alt. DOB 28 Nov 1967; alt. DOB 11 Nov 1967; POB Dolores, Uruguay; Cedula No. 172101469-2 (Ecuador); Passport B716164 (Uruguay); alt. Passport C144880 (Uruguay); alt. Passport 02952296-8 (Uruguay) (individual) [SDNTK]

3. MEJIA ZULUAGA, Omar, c/o AS INVERSIONES S.A., Bogota, Colombia; c/o C.I. PLANETA COMERCIAL S.A., Bogota, Colombia; c/o CBM DE COLOMBIA S.A., Bogota, Colombia; c/o FEDERAL CAPITAL GROUP, S.A., Panama City, Panama; c/o PRODUCTOS KIBONY S.A.S., Bogota, Colombia; c/o T & T ANDINA S.A., Bogota, Colombia; Carrera 7 No. 62-43 Ap. 802, Bogota, Colombia; Carrera 14A No. 151A-06Ap. 4-104, Bogota, Colombia; Carrera 19A No. 102-70, Bogota, Colombia; DOB 18 Jan 1956; POB Villahermosa, Tolima, Colombia; Cedula No. 19316392 (Colombia) (individual) [SDNTK]

4. URIBE CIFUENTES, Ana Maria, c/o CIFUENTES URIBE Y CIA. S.C.S., Medellin, Colombia; c/o ECOVIVERO EL MATORRAL E.U., Medellin, Colombia; Calle 7 Sur No. 23-91 Apto. 804, Medellin, Colombia; DOB 1 Feb 1980; POB Medellin, Colombia; Cedula No. 43162647 (Colombia) (individual) [SDNTK]

Entities:

1. AS INVERSIONES S.A., Carrera 14A No. 151A-06 T4 104, Bogota, Colombia; NIT # 800224826-0 (Colombia) [SDNTK]

2. C.I. PLANETA COMERCIAL S.A., Carrera 11 No. 67-63 Piso 2, Bogota, Colombia; NIT # 830079228-3 (Colombia) [SDNTK]

3. CBM DE COLOMBIA S.A., Carrera 35A No. 62-32, Bogota, Colombia; NIT # 830072893-1 (Colombia) [SDNTK]

4. COMERCIALIZADORA EMPRESARIAL TEAM BUSINESS S.A., Av. de los Shyris N35-174 y Suecia, Ofic. 508, Quito, Pichincha, Ecuador; RUC # 1792167248001 (Ecuador) [SDNTK]

5. GENETICA DEL SUR S.A., Padron 15001 S. Judicial 9 y 10 Seccion Catastral—Paraje Retamosa, Lavalleja, Uruguay; Cerrito 532 Of. 501, Montevideo, Uruguay; RUT # 215.950.390.012 (Uruguay) [SDNTK]

6. GRUPO MUNDO MARINO, S.A., Panama; Business Registration Document # 383112 (Panama) [SDNTK]

7. INTERNATIONAL GROUP OIRALIH, S.A. DE C.V., Boulevard Interlomas 5 Local W-13, Colonia San Fernando La Herradura, Huixquilucan, Estado de Mexico C.P. 52787, Mexico; R.F.C. IGO0106296K5 (Mexico) [SDNTK]

8. NEGOCIOS INTERNACIONALES DEL ECUADOR NIDEGROUP S.A., Calle B, Lote 27 y Calle A, Quito, Pichincha, Ecuador; RUC # 1792138884001 (Ecuador) [SDNTK]

9. PRODUCTOS KIBONY S.A.S., Carrera 35A No. 62-32, Bogota, Colombia; NIT # 830052461-6 (Colombia) [SDNTK]

10. R D I S.A., Calle 64A No. 32-52, Bogota, Colombia; NIT # 830054366-3 (Colombia) [SDNTK]

11. SNACK PARTY, Los Vinedos 19 y Venezuela, Quito, Pichincha, Ecuador; RUC # 1721014692001 (Ecuador) [SDNTK]

12. T & T ANDINA S.A., Carrera 69D No. 31-10, Bogota, Colombia;

NIT # 830089233-3 (Colombia) [SDNTK]

In addition, OFAC has made additions to the identifying information for the following nine individuals and 10 entities previously designated pursuant to the Kingpin Act: Individuals:

1. BASTO DELGADO, Irma Mery, c/o C.I. OKCOFFEE COLOMBIA S.A., Bogota, Colombia; c/o C.I. OKCOFFEE INTERNATIONAL S.A., Bogota, Colombia; c/o C.I. DISTRIBUIDORA DE SERVICIOS COMBUSTIBLES Y MINERIA S.A., Bogota, Colombia; c/o CUBICAFE S.A., Bogota, Colombia; c/o FUNDACION PARA EL BIENESTAR Y EL PORVENIR, Medellin, Colombia; c/o HOTELES Y BIENES S.A., Bogota, Colombia; c/o UNION DE CONSTRUCTORES CONUSA S.A., Bogota, Colombia; DOB 5 Apr 1967; Cedula No. 20904590 (Colombia) (individual) [SDNTK]

2. CIFUENTES VILLA, Hector Mario, c/o C.I. GLOBAL INVESTMENTS S.A., Medellin, Colombia; c/o C.I. OKCOFFEE COLOMBIA S.A., Bogota, Colombia; c/o CUBI CAFE CLICK CUBE MEXICO, S.A. DE C.V., Mexico City, Distrito Federal, Mexico; c/o INVERSIONES CIFUENTES Y CIA. S. EN C., Medellin, Colombia; c/o ROBLE DE MINAS S.A., Medellin, Colombia; c/o UNION DE CONSTRUCTORES CONUSA S.A., Bogota, Colombia; DOB 28 Nov 1964; POB Medellin, Colombia; Cedula No. 71653530 (Colombia); Passport AG048125 (Colombia) (individual) [SDNTK]

3. CIFUENTES VILLA, Jorge Milton (a.k.a. LOPEZ SALAZAR, Elkin de Jesus), c/o BIO FORESTAL S.A., Medellin, Colombia; c/o C.I. DISTRIBUIDORA DE SERVICIOS COMBUSTIBLES Y MINERIA S.A., Bogota, Colombia; c/o C.I. METALURGIA EXTRACTIVA DE COLOMBIA S.A.S., Bogota, Colombia; c/o C.I. OKCOFFEE COLOMBIA S.A., Bogota, Colombia; c/o C.I. OKCOFFEE INTERNATIONAL S.A., Bogota, Colombia; c/o CUBICAFE S.A., Bogota, Colombia; c/o CUBI CAFE CLICK CUBE MEXICO, S.A. DE C.V., Mexico City, Distrito Federal, Mexico; c/o DESARROLLO MINERO RESPONSIBLE C.I. S.A.S., Bogota, Colombia; c/o DOLPHIN DIVE SCHOOL S.A., Cartagena, Colombia; c/o FUNDACION OKCOFFEE COLOMBIA, Bogota, Colombia; c/o FUNDACION PARA EL BIENESTAR Y EL PORVENIR, Medellin, Colombia; c/o FUNDACION SALVA LA SELVA, Bogota, Colombia; c/o GESTORES DEL ECUADOR GESTORUM S.A., Quito, Ecuador; c/o HOTELES Y BIENES S.A., Bogota, Colombia; c/o INVERPUNTO DEL VALLE S.A., Cali, Colombia; c/o INVERSIONES CIFUENTES Y CIA. S. EN C., Medellin, Colombia; c/o LE CLAUDE, S.A. DE C.V., Mexico City, Distrito Federal, Mexico; c/o LINEA AEREA PUEBLOS AMAZONICOS S.A.S., Bogota, Colombia; c/o OPERADORA NUEVA GRANADA, S.A. DE C.V., Mexico City, Distrito Federal, Mexico; c/o PARQUES TEMATICOS S.A., Medellin, Colombia; c/o PROMO RAIZ S.A., Medellin, Colombia; c/o RED MUNDIAL INMOBILIARIA, S.A. DE C.V., Huixquilucan, Estado de Mexico, Mexico; c/o GANADERIA LA SORGUITA S.A., Medellin, Colombia; Avenida Carrera 9 No. 113-52 Of. 401, Bogota, Colombia; Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso No. 80 Interior 2, Colonia Lomas Country Club, Huixquilucan, Estado de Mexico C.P. 52779, Mexico; Camino del Remanso, No. 80 A, Planta Baja, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; DOB 13 May 1965; alt. DOB 13 Apr 1968; POB Medellin, Colombia; alt. POB Marinilla, Antioquia, Colombia; C.U.R.P. CIVJ650513HNEFLR06 (Mexico); Cedula No. 7548733 (Colombia); alt. Cedula No. 70163752 (Colombia); alt. Cedula No. 172489729-1 (Ecuador); Matricula Mercantil No 181301-1 Cali (Colombia); alt. Matricula Mercantil No 405885 Bogota (Colombia); Passport AL720622 (Colombia); R.F.C. CIVJ650513LJA (Mexico) (individual) [SDNTK]

4. GALLEGO MARIN, Fabian Rodrigo, c/o IGA LTDA., Itagui, Antioquia, Colombia; c/o RUTA 33 MOTOCICLETAS Y ACCESORIOS LTDA., Medellin, Colombia; Calle 79A Sur No. 46-53, Sabaneta, Antioquia, Colombia; DOB 25 Aug 1967; Cedula No. 98522962 (Colombia) (individual) [SDNTK]

5. GOMEZ ORTIZ, David, c/o GESTORES DEL ECUADOR GESTORUM S.A., Quito, Ecuador; Avenida de los Estudiantes No. 21-54, Pasto, Narino, Colombia; Calle 20 No. 21-54, Pasto, Narino, Colombia; DOB 14 Aug 1977; POB Pasto, Narino, Colombia; Cedula No. 98398142 (Colombia); Cedula No. 171984116-3 (Ecuador) (individual) [SDNTK]

6. LONDONO RAMIREZ, Juan Pablo Antonio, c/o INTERNETSTATIONS E.U., Medellin, Colombia; c/o MONEDEUX EUROPA S.L., Madrid, Spain; c/o MONEDEUX FINANCIAL SERVICES COLOMBIA LTDA., Bogota, Colombia; c/o MONEDEUX LATIN AMERICA, S. DE R.L. DE C.V., Mexico City, Distrito Federal, Mexico; c/o MONEDEUX FINANCIAL SERVICES NORTH AMERICA, INC., Miami, FL, United States; c/o MONEDEUX INTERNATIONAL SERVICES INC., Panama City, Panama; Carrera 78 No. 34-40, Medellin, Colombia; DOB 15 Feb 1965; POB Manizales, Colombia; Cedula No. 10267976 (Colombia); Passport AI314893 (Colombia); Passport AJ847440 (Colombia); Passport CC10267976 (Colombia); R.F.C. LORJ650215DH1 (Mexico) (individual) [SDNTK]

7. NICHOLLS EASTMAN, Winston, c/o CROSS WINDS, S.A., Panama City, Panama; c/o FEDERAL CAPITAL GROUP, S.A., Panama City, Panama; c/o LINEAS AEREAS ANDINAS LINCANDISA S.A., Quito, Ecuador; DOB 27 Mar 1943; POB Manizales, Colombia; Cedula No. 5199571 (Colombia); Residency Number 172191348-9 (Ecuador) (individual) [SDNTK]

8. RESTREPO ZAPATA, Milvia Yaneth (a.k.a. RESTREPO ZAPATA, Milvia Janeth), c/o BIO FORESTAL S.A., Medellin, Colombia; c/o C.I. OKCOFFEE COLOMBIA S.A., Bogota, Colombia; c/o C.I. OKCOFFEE INTERNATIONAL S.A., Bogota, Colombia; c/o FUNDACION OKCOFFEE COLOMBIA, Bogota, Colombia; c/o FUNDACION PARA EL BIENESTAR Y EL PORVENIR, Medellin, Colombia; c/o HOTELES Y BIENES S.A., Bogota, Colombia; c/o INVERPUNTO DEL VALLE S.A., Cali, Colombia; c/o PROMO RAIZ S.A., Medellin, Colombia; c/o UNION DE CONSTRUCTORES CONUSA S.A., Bogota, Colombia; Carrera 112 GT No. 86B-60, Bogota, Colombia; DOB 13 Dec 1973; Cedula No. 43825354 (Colombia) (individual) [SDNTK]

9. SANCHEZ PUENTES, Yenny Mabel, c/o DOLPHIN DIVE SCHOOL S.A., Cartagena, Colombia; c/o INVERPUNTO DEL VALLE S.A., Cali, Colombia; Calle 140 No. 6-30 Int. 9 Ap. 201, Bogota, Colombia; Calle 187 54-55 Int. 21 Ap. 201, Bogota, Colombia; DOB 19 Dec 1967; POB Otanche, Boyaca, Colombia; Cedula No. 51908699 (Colombia); Passport AH982263 (Colombia) (individual) [SDNTK]

Entities:

1. BIO FORESTAL S.A. (a.k.a. BIOFORESTAL S.A.), Autopista Bogota-Medellin Km. 7, Parque Industrial Celta Lote 41 Bodega 8, Funza, Cundinamarca, Colombia; Calle 7 Sur No. 42-70 Of. 1205, Medellin, Colombia; Finca Casa Blanca, Arboletes y Necoli, Antioquia, Colombia; Finca La Cana, Cordoba, Colombia; Finca San Luis, Monteria, Cordoba, Colombia; Finca Toldas, Guarne, Antioquia, Colombia; La Sorguita, Jerico, Antioquia, Colombia; NIT # 811038709-1 (Colombia) [SDNTK]

2. C.I. DISTRIBUIDORA DE SERVICIOS COMBUSTIBLES Y MINERIA S.A. (a.k.a. C.I. DISERCOM S.A.; a.k.a. DISERCOM S.A.; f.k.a. DISTRIBUIDORA DE SERVICIOS Y COMBUSTIBLES S.A.), Autopista Bogota-Medellin Km. 7, Parque Industrial Celta Lote 41 Bodega 8, Funza, Cundinamarca, Colombia; Avenida Carrera 9 No. 113-52 Ofc. 401, Bogota, Colombia; Carrera 13 No. 29-21, Manzana 1 Oficina 401, Bogota, Colombia; Carrera 13 No. 29-21, Manzana 1 Oficina 401, Bogota, Colombia; NIT # 830046009-5 (Colombia) [SDNTK]

3. C.I. OKCOFFEE COLOMBIA S.A., Autopista Bogota-Medellin Km. 7, Parque Industrial Celta Lote 41 Bodega 8, Funza, Cundinamarca, Colombia; Avenida Carrera 9 No. 113-52 Ofc. 402, Bogota, Colombia; NIT # 830124959-1 (Colombia) [SDNTK]

4. C.I. OKCOFFEE INTERNATIONAL S.A., Autopista Bogota-Medellin Km. 7, Parque Industrial Celta Lote 41 Bodega 8, Funza, Cundinamarca, Colombia; Avenida Carrera 9 No. 113-52 Ofc. 401, Bogota, Colombia; NIT # 900060391-6 (Colombia) [SDNTK]

5. CUBICAFE S.A. (a.k.a. OK COFFEE), Avenida Carrera 9 No. 113-52 Ofc. 401, Bogota, Colombia; Calle 65 Bis No. 89A-73, Bogota, Colombia; Autopista Bogota- Medellin Km. 7, Parque Industrial Celta Lote 41 Bodega 8, Funza, Cundinamarca, Colombia; NIT # 830136426-1 (Colombia) [SDNTK]

6. GANADERIA LA SORGUITA S.A. (a.k.a. LA SORGUITA S.A.), Calle 16 Sur No. 46A-49 Piso 6, Medellin, Colombia; NIT # 800220730-4 (Colombia) [SDNTK]

7. PARQUES TEMATICOS S.A. (a.k.a. HACIENDA HOTEL EL INDIO), Calle 16C Sur No. 42-70, Apto. 502, Medellin, Colombia; Vereda la Playita, Barbosa, Antioquia, Colombia; NIT # 811035877-5 (Colombia) [SDNTK]

8. PROMO RAIZ S.A., Calle 7 Sur No. 42-70 Of. 1205, Medellin, Colombia; NIT # 811035904-6 (Colombia) [SDNTK]

9. ROBLE DE MINAS S.A., Calle 18B Sur No. 36-35 Apto. 1603, Medellin, Colombia; Calle 75 Carrera 77E, Medellin, Colombia; NIT # 811043722-6 (Colombia) [SDNTK]

10. UNION DE CONSTRUCTORES CONUSA S.A., Apartamentos Life, Medellin, Colombia; Avenida Carrera 9 No. 113-52 Ofc. 401, Bogota, Colombia; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT # 800226431-4 (Colombia) [SDNTK]

The listings for these nine individuals and ten entities now appear as follows:

Individuals:

1. BASTO DELGADO, Irma Mery, c/o C.I. OKCOFFEE COLOMBIA S.A., Bogota, Colombia; c/o C.I. OKCOFFEE INTERNATIONAL S.A., Bogota, Colombia; c/o C.I. DISTRIBUIDORA DE SERVICIOS COMBUSTIBLES Y MINERIA S.A., Bogota, Colombia; c/o CUBICAFE S.A., Bogota, Colombia; c/o FUNDACION PARA EL BIENESTAR Y EL PORVENIR, Medellin, Colombia; c/o HOTELES Y BIENES S.A., Bogota, Colombia; c/o UNION DE CONSTRUCTORES CONUSA S.A., Bogota, Colombia; c/o R D I S.A., Bogota, Colombia; DOB 5 Apr 1967; Cedula No. 20904590 (Colombia) (individual) [SDNTK]

2. CIFUENTES VILLA, Hector Mario, c/o C.I. GLOBAL INVESTMENTS S.A., Medellin, Colombia; c/o C.I. OKCOFFEE COLOMBIA S.A., Bogota, Colombia; c/o CUBI CAFE CLICK CUBE MEXICO, S.A. DE C.V., Mexico City, Distrito Federal, Mexico; c/o GENETICA DEL SUR S.A., Lavalleja, Uruguay; c/o INVERSIONES CIFUENTES Y CIA. S. EN C., Medellin, Colombia; c/o ROBLE DE MINAS S.A., Medellin, Colombia; c/o UNION DE CONSTRUCTORES CONUSA S.A., Bogota, Colombia; DOB 28 Nov 1964; POB Medellin, Colombia; Cedula No. 71653530 (Colombia); Passport AG048125 (Colombia) (individual) [SDNTK]

3. CIFUENTES VILLA, Jorge Milton (a.k.a. LOPEZ SALAZAR, Elkin de Jesus), c/o BIO FORESTAL S.A., Medellin, Colombia; c/o C.I. DISTRIBUIDORA DE SERVICIOS COMBUSTIBLES Y MINERIA S.A., Bogota, Colombia; c/o C.I. METALURGIA EXTRACTIVA DE COLOMBIA S.A.S., Bogota, Colombia; c/o C.I. OKCOFFEE COLOMBIA S.A., Bogota, Colombia; c/o C.I. OKCOFFEE INTERNATIONAL S.A., Bogota, Colombia; c/o CUBICAFE S.A., Bogota, Colombia; c/o CUBI CAFE CLICK CUBE MEXICO, S.A. DE C.V., Mexico City, Distrito Federal, Mexico; c/o DESARROLLO MINERO RESPONSIBLE C.I. S.A.S., Bogota, Colombia; c/o DOLPHIN DIVE SCHOOL S.A., Cartagena, Colombia; c/o FUNDACION OKCOFFEE COLOMBIA, Bogota, Colombia; c/o FUNDACION PARA EL BIENESTAR Y EL PORVENIR, Medellin, Colombia; c/o FUNDACION SALVA LA SELVA, Bogota, Colombia; c/o GESTORES DEL ECUADOR GESTORUM S.A., Quito, Ecuador; c/o GRUPO MUNDO MARINO, S.A., Panama; c/o HOTELES Y BIENES S.A., Bogota, Colombia; c/o INVERPUNTO DEL VALLE S.A., Cali, Colombia; c/o INVERSIONES CIFUENTES Y CIA. S. EN C., Medellin, Colombia; c/o LE CLAUDE, S.A. DE C.V., Mexico City, Distrito Federal, Mexico; c/o LINEA AEREA PUEBLOS AMAZONICOS S.A.S., Bogota, Colombia; c/o OPERADORA NUEVA GRANADA, S.A. DE C.V., Mexico City, Distrito Federal, Mexico; c/o PARQUES TEMATICOS S.A., Medellin, Colombia; c/o PROMO RAIZ S.A., Medellin, Colombia; c/o R D I S.A., Bogota, Colombia; c/o RED MUNDIAL INMOBILIARIA, S.A. DE C.V., Huixquilucan, Estado de Mexico, Mexico; c/o GANADERIA LA SORGUITA S.A., Medellin, Colombia; Avenida Carrera 9 No. 113-52 Of. 401, Bogota, Colombia; Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso No. 80 Interior 2, Colonia Lomas Country Club, Huixquilucan, Estado de Mexico C.P. 52779, Mexico; Camino del Remanso, No. 80 A, Planta Baja, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; DOB 13 May 1965; alt. DOB 13 Apr 1968; POB Medellin, Colombia; alt. POB Marinilla, Antioquia, Colombia; C.U.R.P. CIVJ650513HNEFLR06 (Mexico); Cedula No. 7548733 (Colombia); alt. Cedula No. 70163752 (Colombia); alt. Cedula No. 172489729-1 (Ecuador); Matricula Mercantil No 181301-1 Cali (Colombia); alt. Matricula Mercantil No 405885 Bogota (Colombia); Passport AL720622 (Colombia); R.F.C. CIVJ650513LJA (Mexico) (individual) [SDNTK]

4. GALLEGO MARIN, Fabian Rodrigo, c/o IGA LTDA., Itagui, Antioquia, Colombia; c/o INTERNATIONAL GROUP OIRALIH, S.A. DE C.V., Huixquilucan, Estado de Mexico, Mexico; c/o NEGOCIOS INTERNACIONALES DEL ECUADOR NIDEGROUP S.A., Quito, Pichincha, Ecuador; c/o RUTA 33 MOTOCICLETAS Y ACCESORIOS LTDA., Medellin, Colombia; Avenida Homero No. 136, Interior 10, Colonia Chapultepec Morales, Delegacion Miguel Hidalgo, Mexico City, Distrito Federal, Mexico; Calle 79A Sur No. 46-53, Sabaneta, Antioquia, Colombia; Calle Rio Elba No. 56, Interior 6, Colonia Cuauhtemoc, Delegacion Cuauhtemoc, Mexico City, Distrito Federal C.P. 06170, Mexico; DOB 25 Aug 1967; Cedula No. 98522962 (Colombia) (individual) [SDNTK]

5. GOMEZ ORTIZ, David, c/o COMERCIALIZADORA EMPRESARIAL TEAM BUSINESS S.A., Quito, Pichincha, Ecuador; c/o GESTORES DEL ECUADOR GESTORUM S.A., Quito, Ecuador; Avenida de los Estudiantes No. 21-54, Pasto, Narino, Colombia; Calle 20 No. 21-54, Pasto, Narino, Colombia; DOB 14 Aug 1977; POB Pasto, Narino, Colombia; Cedula No. 98398142 (Colombia); Cedula No. 171984116-3 (Ecuador) (individual) [SDNTK]

6. LONDONO RAMIREZ, Juan Pablo Antonio, c/o INTERNETSTATIONS E.U., Medellin, Colombia; c/o MONEDEUX EUROPA S.L., Madrid, Spain; c/o MONEDEUX FINANCIAL SERVICES COLOMBIA LTDA., Bogota, Colombia; c/o MONEDEUX LATIN AMERICA, S. DE R.L. DE C.V., Mexico City, Distrito Federal, Mexico; c/o MONEDEUX FINANCIAL SERVICES NORTH AMERICA, INC., Miami, FL, United States; c/o MONEDEUX INTERNATIONAL SERVICES INC., Panama City, Panama; Carrera 78 No. 34-40, Medellin, Colombia; DOB 15 Feb 1965; POB Manizales, Colombia; Cedula No. 10267976 (Colombia); Passport AI314893 (Colombia); Passport AJ847440 (Colombia); Passport CC10267976 (Colombia); N.I.E. X-09552581-Z (Spain); R.F.C. LORJ650215DH1 (Mexico) (individual) [SDNTK]

7. NICHOLLS EASTMAN, Winston, c/o COMERCIALIZADORA EMPRESARIAL TEAM BUSINESS S.A., Quito, Pichincha, Ecuador; c/o CROSS WINDS, S.A., Panama City, Panama; c/o FEDERAL CAPITAL GROUP, S.A., Panama City, Panama; c/o LINEAS AEREAS ANDINAS LINCANDISA S.A., Quito, Ecuador; DOB 27 Mar 1943; POB Manizales, Colombia; Cedula No. 5199571 (Colombia); Residency Number 172191348-9 (Ecuador) (individual) [SDNTK]

8. RESTREPO ZAPATA, Milvia Yaneth (a.k.a. RESTREPO ZAPATA, Milvia Janeth), c/o BIO FORESTAL S.A., Medellin, Colombia; c/o C.I. OKCOFFEE COLOMBIA S.A., Bogota, Colombia; c/o C.I. OKCOFFEE INTERNATIONAL S.A., Bogota, Colombia; c/o FUNDACION OKCOFFEE COLOMBIA, Bogota, Colombia; c/o FUNDACION PARA EL BIENESTAR Y EL PORVENIR, Medellin, Colombia; c/o HOTELES Y BIENES S.A., Bogota, Colombia; c/o INVERPUNTO DEL VALLE S.A., Cali, Colombia; c/o PROMO RAIZ S.A., Medellin, Colombia; c/o R D I S.A., Bogota, Colombia; c/o UNION DE CONSTRUCTORES CONUSA S.A., Bogota, Colombia; Carrera 112 GT No. 86B-60, Bogota, Colombia; DOB 13 Dec 1973; Cedula No. 43825354 (Colombia) (individual) [SDNTK]

9. SANCHEZ PUENTES, Yenny Mabel, c/o CBM DE COLOMBIA S.A., Bogota, Colombia; c/o DOLPHIN DIVE SCHOOL S.A., Cartagena, Colombia; c/o INVERPUNTO DEL VALLE S.A., Cali, Colombia; c/o R D I S.A., Bogota, Colombia; Calle 140 No. 6-30 Int. 9 Ap. 201, Bogota, Colombia; Calle 187 54-55 Int. 21 Ap. 201, Bogota, Colombia; DOB 19 Dec 1967; POB Otanche, Boyaca, Colombia; Cedula No. 51908699 (Colombia); Passport AH982263 (Colombia) (individual) [SDNTK]

Entities:

1. BIO FORESTAL S.A.S. (f.k.a. BIOFORESTAL S.A.; f.k.a. BIO FORESTAL S.A.), Autopista Bogota-Medellin Km. 7, Parque Industrial Celta Lote 41 Bodega 8, Funza, Cundinamarca, Colombia; Calle 7 Sur No. 42-70 Of. 1205, Medellin, Colombia; Finca Casa Blanca, Arboletes y Necoli, Antioquia, Colombia; Finca La Cana, Cordoba, Colombia; Finca San Luis, Monteria, Cordoba, Colombia; Finca Toldas, Guarne, Antioquia, Colombia; La Sorguita, Jerico, Antioquia, Colombia; NIT # 811038709-1 (Colombia) [SDNTK]

2. C.I. DISERCOM S.A.S. (f.k.a. C.I. DISERCOM S.A.; f.k.a. DISERCOM S.A.; f.k.a. DISTRIBUIDORA DE SERVICIOS Y COMBUSTIBLES S.A.; f.k.a. C.I. DISTRIBUIDORA DE SERVICIOS COMBUSTIBLES Y MINERIA S.A.), Autopista Bogota-Medellin Km. 7, Parque Industrial Celta Lote 41 Bodega 8, Funza, Cundinamarca, Colombia; Avenida Carrera 9 No. 113-52 Ofc. 401, Bogota, Colombia; Carrera 13 No. 29-21, Manzana 1 Oficina 401, Bogota, Colombia; NIT # 830046009-5 (Colombia) [SDNTK]

3. C.I. OKCOFFEE COLOMBIA S.A.S. (f.k.a. C.I. OKCOFFEE COLOMBIA S.A.), Autopista Bogota-Medellin Km. 7, Parque Industrial Celta Lote 41 Bodega 8, Funza, Cundinamarca, Colombia; Avenida Carrera 9 No. 113-52 Ofc. 402, Bogota, Colombia; NIT # 830124959-1 (Colombia) [SDNTK]

4. C.I. OKCOFFEE INTERNATIONAL S.A.S. (f.k.a. C.I. OKCOFFEE INTERNATIONAL S.A.), Autopista Bogota-Medellin Km. 7, Parque Industrial Celta Lote 41 Bodega 8, Funza, Cundinamarca, Colombia; Avenida Carrera 9 No. 113-52 Ofc. 401, Bogota, Colombia; NIT # 900060391-6 (Colombia) [SDNTK]

5. CUBICAFE S.A.S. (a.k.a. OK COFFEE; f.k.a. CUBICAFE S.A.), Autopista Bogota-Medellin Km. 7, Parque Industrial Celta Lote 41 Bodega 8, Funza, Cundinamarca, Colombia; Avenida Carrera 9 No. 113-52 Ofc. 401, Bogota, Colombia; Calle 65 Bis No. 89A-73, Bogota, Colombia; NIT # 830136426-1 (Colombia) [SDNTK]

6. GANADERIA LA SORGUITA S.A.S. (f.k.a. LA SORGUITA S.A.; f.k.a. GANADERIA LA SORGUITA S.A.), Calle 16 Sur No. 46A-49 Piso 6, Medellin, Colombia; NIT # 800220730-4 (Colombia) [SDNTK]

7. PARQUES TEMATICOS S.A.S. (a.k.a. HACIENDA HOTEL EL INDIO; f.k.a. PARQUES TEMATICOS S.A.), Calle 16C Sur No. 42-70, Apto. 502, Medellin, Colombia; Vereda la Playita, Barbosa, Antioquia, Colombia; NIT # 811035877-5 (Colombia) [SDNTK]

8. PROMO RAIZ S.A.S. (f.k.a. PROMO RAIZ S.A.), Calle 7 Sur No. 42-70 Of. 1205, Medellin, Colombia; NIT # 811035904-6 (Colombia) [SDNTK]

9. ROBLE DE MINAS S.A.S. (f.k.a. ROBLE DE MINAS S.A.), Calle 18B Sur No. 36-35 Apto. 1603, Medellin, Colombia; Calle 75 Carrera 77E, Medellin, Colombia; NIT # 811043722-6 (Colombia) [SDNTK]

10. UNION DE CONSTRUCTORES CONUSA S.A.S. (f.k.a. UNION DE CONSTRUCTORES CONUSA S.A.), Apartamentos Life, Medellin, Colombia; Avenida Carrera 9 No. 113-52 Ofc. 401, Bogota, Colombia; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT # 800226431-4 (Colombia) [SDNTK]

Dated: September 21, 2011.
Adam J. Szubin,
Director, Office of Foreign Assets Control.

[FR Doc. 2011-24682 Filed 9-23-11; 8:45 am]

BILLING CODE 4810-AL-P